DEPARTMENT OF COMMERCE

Economics and Statistics Administration

Performance Review Board Membership

SUMMARY: Below is a listing of individuals who are eligible to serve on the Performance Review Board in accordance with the Economics and Statistics Administration's Senior Executive Service and Senior Professional Performance Management Systems:

Hermann Habermann; Shirin A. Ahmed; Teresa Angueira; William G. Bostic, Jr.; Stephanie Brown; Howard Hogan; Nancy M. Gordon; Arnold A. Jackson; Theodore A. Johnson; Ruth Ann Killion; Bob LaMacchia; Michael J. Longini; Thomas L. Mesenbourg; C. Harvey Monk; Andrew H. Moxam; Walter C. Odom, Jr.; Marvin D. Raines; Brain Monaghan; Rajendra P. Singh; Ricard W. Swartz; Alan R. Tupek; Preston J. Waite; Mark E. Wallace; Daniel H. Weinberg; Ewen M. Wilson; Tommy Wright; Robert Fay III; William Bell; Elizabeth Martin; Paul Friday; David Findley; J. Steven Landefeld; Dennis J. Fixler; Ralph H. Kozlow; Alan C. Lorish; Rosemary D. Marcus; Brent R. Moulton; Sumiye O. Okubo; John W. Ruser; James K. White; Susan Offutt; Jane Molloy; Suzette Kern; Carl Cox; Keith Hall and Elizabeth R. Anderson.

FOR FURTHER INFORMATION CONTACT: Nancy Osborn, (301) 763-3727.

Dated: July 13, 2005.
James K. White,
Associate Under Secretary for Management, Chair, Performance Review Board.

[FR Doc. 05-14411 Filed 7-20-05; 8:45 am]

BILLING CODE 3510-BS-P